CONSUMER PRODUCT SAFETY COMMISSION

Notification of Request for Extension of Approval of Information Collection Requirements—Sound Levels for Toy Caps

AGENCY: Consumer Product Safety Commission.

ACTION: Notice.

SUMMARY: In the June 13, 2002 Federal Register (67 FR 40689), the Consumer Product Safety Commission published a notice in accordance with provisions of the Paperwork Reduction Act (44 U.S.C. chapter 35), to announce the agency's intention to seek an extension of approval for a period of three years from the date of approval by the Office of Management and Budget of information collection requirements in a regulation exempting certain toy caps from a banning rule. One comment was received on the Federal Register notice of June 13, 2002. However, the comment related to the decibel level requirements of the rule and not the reporting requirement subject to the Paperwork Reduction Act. Therefore, the Commission now announces that it has submitted to the Office of Management and Budget a request for extension of approval of that collection of information.

A regulation codified at 16 CFR 1500.18(a)(5) bans toy caps producing peak sound levels at or above 138 decibels (dB). Another regulation codified at 16 CFR 1500.86(a)(6) exempts toy caps producing sound levels between 138 and 158 dB from the banning rule if they bear a specified warning label and if firms intending to distribute such caps: (1) Notify the Commission of their intent to distribute such caps; (2) participate in a program to develop toy caps producing sound levels below 138 dB; and (3) report quarterly to the Commission concerning the status of their programs to develop caps with reduced sound levels.

The Commission requests extension of approval of the information collection requirements in the rule codified at 16 CFR 1500.86(a)(6) to obtain current and periodically-updated information from all manufacturers concerning the status of programs to reduce sound levels of toy caps. The Commission will use this information to monitor industry efforts to reduce the sound levels of toy caps, and to ascertain which firms are currently manufacturing or importing toy caps with peak sound levels between 138 and 158 db.

Additional Details About the Request for Extension of Approval of Information Collection Requirements

Agency address: Consumer Product Safety Commission, Washington, DC 20207.

Title of information collection: Information Collection Requirements for Sound Levels for Toy Caps; 16 CFR 1500.86(a)(6)(ii) and (iii).

Type of request: Extension of approval.

Frequency of collection: One-time notification before beginning distribution; status report four times each year.

General description of respondents: Manufacturers and importers of toy caps.

Estimated number of respondents: 10.

Estimated average number of hours per respondent: 4 per year.

Estimated number of hours for all respondents: 40 per year.

Comments: Comments on this request for extension of approval of information collection requirements should be submitted by September 26, 2002, to (1) Office of Information and Regulatory Affairs, Attn: OMB Desk Officer for CPSC, Office of Management and Budget, Washington, DC 20503; telephone: (202) 395-7340, and (2) the Office of the Secretary, Consumer Product Safety Commission, Washington, DC 20207. Written comments may also be sent to the Office of the Secretary by facsimile at (301) 504-0127 or by e-mail at cpsc-os@cpsc.gov. Copies of this request for extension of approval of information collection requirements are available from Linda Glatz, management and program analyst, Office of Planning and Evaluation, Consumer Product Safety Commission, Washington, DC 20207; telephone: (301) 504-0416, extension 2226.

Dated: August 21, 2002.
Todd A. Stevenson,
Secretary, Consumer Product Safety Commission.

[FR Doc. 02-21696 Filed 8-26-02; 8:45 am]

BILLING CODE 6355-01-P